TENNESSEE VALLEY AUTHORITY

Sunshine Act Meetings

TIME AND DATE: 9:00 a.m. CT on November 9, 2023.

PLACE: Cadence Bank Center, 375 E Main Street, Tupelo, Mississippi.

STATUS: Open.

MATTERS TO BE CONSIDERED:

Meeting No. 23-04

The TVA Board of Directors will hold a public meeting on November 9, 2023, at the Cadence Bank Center, 375 E Main Street, Tupelo, Mississippi.

The meeting will be called to order at 9:00 a.m. CT to consider the agenda items listed below. TVA management will answer questions from the news media following the Board meeting.

On November 8, at the Cadence Bank Center, the public may comment on any agenda item or subject at a board-hosted public listening session which begins at 2:00 p.m. CT and will last until 4:00 p.m. Preregistration is required to address the Board.

Agenda

1. Approval of minutes of the August 24, 2023 Board Meeting

2. Resolution Honoring the Late Barbara Haskew

3. Report of the Audit, Finance, Risk, and Cybersecurity Committee

A. TVA's Insider Trading Policy

B. Recovery Policy

4. Report of the Operations and Nuclear Oversight Committee

5. Report of the People and Governance Committee

A. FY 2023 and FY 2024 Performance and Compensation

6. Report of the External Stakeholders and Regulation Committee

A. Determination on PURPA Standards

7. Report from President and CEO

CONTACT PERSON FOR MORE INFORMATION: For more information: Please call Ashton Davies, TVA Media Relations at (865) 632-6000, Knoxville, Tennessee. Anyone who wishes to comment on any of the agenda in writing may send their comments to: TVA Board of Directors, Board Agenda Comments, 400 West Summit Hill Drive, Knoxville, Tennessee 37902.

Dated: November 2, 2023.
Edward C. Meade,
Agency Liaison.

[FR Doc. 2023-24979 Filed 11-7-23; 4:15 pm]

BILLING CODE 8120-08-P